DEPARTMENT OF THE TREASURY

Submission for OMB Review; Comment Request

February 5, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 15, 2004, to be assured of consideration.

Financial Management Service (FMS)

OMB Number: 1510-0007.

Form Number: SF 1199-A.

Type of Review: Extension.

Title: Direct Deposit Sign-Up Form.

Description: The Direct Deposit Sign-Up Form is used by recipients to authorize the deposit of Federal payments into their accounts at financial institutions. The information is used to route the Direct Deposit payment account at the correct financial institution. It identifies persons who have executed the form.

Respondents: Individuals or households, Business or other for-profit, Federal Government.

Estimated Number of Respondents/Recordkeepers: 406,715.

Estimated Burden Hours Per Respondent/Recordkeeper: 10 minutes.

Frequency of Response: Other (one time).

Estimated Total Reporting/Recordkeeping Burden: 69,142 hours.

OMB Number: 1510-0066.

Form Number: None.

Type of Review: Extension.

Title: 31 CFR Part 208—Management of Federal Agency Disbursements; Final Rule.

Description: This regulation requires that most Federal payments be made by Electronic Funds Transfer (EFT); sets forth waiver requirements; and provides for a low-cost Treasury designated account to individuals at a financial institution that offers such accounts.

Respondents: Business or other for-profit, Individuals or households, Not-for-profit institutions.

Estimated Number of Respondents: 1,300.

Estimated Burden Hours Per Respondent: 15 minutes.

Frequency of Response: Other (as needed).

Estimated Total Reporting Burden: 325 hours.

Clearance Officer: Jiovannah L. Diggs, Financial Management Service, Administrative Programs Division, Records and Information Management Program, 3700 East West Highway, Room 144, Hyattsville, MD 20782, (202) 874-7662.

OMB Reviewer: Joseph F. Lackey, Jr., Office of Management and Budget, Room 10235, New Executive Office Building, Washington, DC 20503, (202) 395-7316.

Lois K. Holland,
Treasury PRA Clearance Officer.

[FR Doc. 04-3068 Filed 2-11-04; 8:45 am]

BILLING CODE 4810-35-P